NUCLEAR REGULATORY COMMISSION

Advisory Committee on Nuclear Waste; Notice of Meeting

The Advisory Committee on Nuclear Waste (ACNW) will hold its 178th meeting on April 10-12, 2007, Room T-2B3, 11545 Rockville Pike, Rockville, Maryland.

The schedule for this meeting is as follows:

Tuesday, April 10, 2007

10:30 a.m.-10:35 p.m.: Opening Remarks by the ACNW Chairman (Open)—The ACNW Chairman will make opening remarks regarding the conduct of today's sessions.

10:35 a.m.-12:30 p.m.: Status of Overall Geologic Repository Program at Yucca Mountain: Views of the Director of the U.S. Department of Energy's (DOE's) Office of Civilian Radioactive Waste Management (Open)—Mr. Edward F. (Ward) Sproat will provide the Committee with his views regarding progress being made by DOE in completing a Licence Application necessary for an NRC construction authorization for a geologic repository at Yucca Mountain, Nevada.

1:30 p.m.-2:30 p.m.: Staff Briefing on International Atomic Energy Agency (IAEA) Requirements Document WS-R-4: Design and Operation of Facilities for Geological Disposal of Radioactive Waste (Open)—The Committee will hear a briefing by staff from NRC's Office of Nuclear Material Safety and Safeguards (NMSS) regarding the final IAEA document that is intended to provide guidance to policymakers, regulators, and operators concerned with the development and regulatory control of geologic disposal facilities for the management of long-lived radioactive waste.

2:45 p.m.-3:30 p.m.: Interim Staff Guidance (ISG)—3: Preclosure Safety Analysis—Dose Performance Objectives and Radiation Protection Program to supplement the Yucca Mountain Review Plan (Open)—The NRC staff from the Division of High-Level Waste Repository Safety (DHLWRS) will brief the Committee on ISG-03, Preclosure Safety Analysis—Dose Performance Objectives and Radiation Protection Program for the staff review of consequence estimates for the preclosure safety analysis and the associated radiation protection program.

3:30 p.m.-4:30 p.m.: Proposed Revision to Standard Review Plan Chapters 11.3 and 11.4 for New Reactor Licensing (Open)—The NRC staff from the Office of Nuclear Regulatory Research (RES) will brief the Committee on the proposed revisions to NUREG-0800, “Standard Review Plan for the Review of Safety Analysis Reports for Nuclear Power Plants,” Chapter 11.3, “Gaseous Waste Management Systems” and Chapter 11.4, “Solid Waste Management Systems,” in support of new reactor licensing.

4:30 p.m.-5:30 p.m.: Discussion of ACNW Letter Reports (Open)—The Committee will discuss potential and proposed ACNW letter reports.

Wednesday, April 11, 2007

9 a.m.-9:05 a.m.: Opening Remarks by the ACNW Chairman (Open)—The ACNW Chairman will make opening remarks regarding the conduct of today's sessions.

9:05 a.m.-10:30 a.m.: Path Forward on an In-situ Leach (ISL) Rulemaking—Summary of Meetings with Environmental Protection Agency (EPA) and National Mining Association (NMA)—Next Steps (Open)—The NRC staff from the Office of Federal and State Materials and Environmental Management Programs (FSME) will brief the Committee on their efforts in developing a path forward for a rulemaking on groundwater protection at ISL sites.

10:45 a.m.-11:45 a.m.: Briefing on MARSAME Manual (Open)—The NRC staff from the Office of Nuclear Regulatory Research (RES) will brief the Committee on the Multi-Agency Radiation Survey and Assessment of Materials and Equipment Manual (MARSAME) Draft Report for Comment.

1:30 p.m.-2:30 p.m.: Scope and Methodology of the Government Accountability Office (GAO)'s ongoing review of the Global Nuclear Energy Partnership (GNEP) effort (Open)—A GAO representative will brief the Committee on the scope and methodology of their current review of the GNEP effort.

2:45 p.m.-3:30 p.m.: Discussion of ACNW Letter Reports (Open)—The Committee will continue discussion of potential and proposed ACNW letter reports.

Thursday, April 12, 2007

8:30 a.m.-8:35 a.m.: Opening Remarks by the ACNW Chairman (Open)—The Chairman will make opening remarks regarding the conduct of today's sessions.

8:35 a.m.-10:30 a.m.: ACNW White Paper on Igneous Activity (Open)—A followup discussion from ACNW February 2007 working group meeting on igneous activity, general review of observations, revisions, and summary conclusions for the White Paper on Igneous Activity at Yucca Mountain.

10:30 a.m.-11:30 a.m.: Update on West Valley Draft Environmental Impact Statement (Open)—The NRC staff from the Office of Federal and State Materials and Environmental Management Programs (FSME) will update the Committee on new analysis being considered for inclusion in the Draft Environmental Impact Statement for the West Valley Nuclear Fuel Services Center in New York.

1 p.m.-2 p.m.: Discussion of ACNW Letter Reports (Open)—The Committee will continue discussion of potential and proposed ACNW letter reports.

2 p.m.-5:30 p.m.: Miscellaneous (Open)—The Committee will discuss matters related to the conduct of ACNW activities and specific issues that were not completed during previous meetings, as time and availability of information permit. Discussions may include content of future letters and scope of future Committee Meetings.

Procedures for the conduct of and participation in ACNW meetings were published in the Federal Register on October 12, 2006 (71 FR 60196). In accordance with these procedures, oral or written statements may be presented by members of the public. Electronic recordings will be permitted only during those portions of the meeting that are open to the public. Persons desiring to make oral statements should notify Mr. Antonio F. Dias (Telephone 301-415-6805), between 8:15 a.m. and 5 p.m. ET, as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office prior to the meeting. In view of the possibility that the schedule for ACNW meetings may be adjusted by the Chairman as necessary to facilitate the conduct of the meeting, persons planning to attend should notify Mr. Dias as to their particular needs.

Further information regarding topics to be discussed, whether the meeting has been canceled or rescheduled, the Chairman's ruling on requests for the opportunity to present oral statements and the time allotted, therefore can be obtained by contacting Mr. Dias.

ACNW meeting agenda, meeting transcripts, and letter reports are available through the NRC Public Document Room (PDR) at pdr@nrc.gov, or by calling the PDR at 1-800-397-4209, or from the Publicly Available Records System component of NRC's document system (ADAMS) which is accessible from the NRC Web site at http://www.nrc.gov/reading-rm/adams.html or http://www.nrc.gov/reading-rm/doc-collections/ (ACRS & ACNW Mtg schedules/agendas).

Video Teleconferencing service is available for observing open sessions of ACNW meetings. Those wishing to use this service for observing ACNW meetings should contact Mr. Theron Brown, ACNW Audiovisual Technician (301-415-8066), between 7:30 a.m. and 3:45 p.m. ET, at least 10 days before the meeting to ensure the availability of this service. Individuals or organizations requesting this service will be responsible for telephone line charges and for providing the equipment and facilities that they use to establish the video teleconferencing link. The availability of video teleconferencing services is not guaranteed.

Dated: March 22, 2007.
Annette L. Vietti-Cook,
Secretary of the Commission.

[FR Doc. E7-5658 Filed 3-27-07; 8:45 am]

BILLING CODE 7590-01-P